DEPARTMENT OF DEFENSE

Office of the Secretary

[Docket ID: DoD-2016-OS-0005]

Proposed Collection; Comment Request

AGENCY: Office of the Under Secretary of Defense (Personnel and Readiness), DoD.

ACTION: Notice.

SUMMARY: In compliance with the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 28, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Under Secretary of Defense (Personnel and Readiness) (Military Community and Family Policy) Office of Family Readiness Policy, Special Needs Program, ATTN: Rebecca Lombardi, 4000 Defense Pentagon, Washington, DC 20301-4000 or call 571-372-0862.

SUPPLEMENTARY INFORMATION: Title; Associated Form; and OMB Number: Family Member Travel Screening, DD Form X678-1TEST, Medical and Education Information, DD Form X678-2TEST, Dental Health Information, and DD Form X678-3TEST, Patient Care Review, OMB Control Number 0704-XXXX.

Needs and Uses: The DD Forms X678-1 TEST, X678-2 TEST, and X678-3 TEST are to be used during the Family Member Travel Screening (FMTS) process when active duty Service members with Permanent Change of Station (PCS) orders to OCONUS or remote installations request Command sponsorship for accompanied travel. These forms assist in determining the availability of care at a gaining installation by documenting any special medical, dental, and/or educational needs of dependents accompanying the Service member. Throughout the process, form respondents include: (1) Active duty Service members and/or dependents over the age of majority who provide demographic information; (2) medical and dental providers who provide information about dependent medical and dental needs; (3) losing FMTS Office staff who document any special medical, dental, and/or educational needs; and (4) gaining FMTS Office staff who document the availability of special needs support services at a gaining location.

Affected Public: Individuals or households; medical and dental providers.

Annual Burden Hours: 2,899 hours.

Number of Respondents: 9,876 respondents.

Responses per Respondent: 1 per year.

Annual Responses: 9,876 per year.

Average Burden per Response: 18 minutes.

Frequency: As needed.

The following is a breakdown of the public time burden for specific FMTS Pilot forms:

• The DD Form X678-1 TEST Medical and Educational Information informs sponsors and FMTS staff about possible special medical and/or educational needs of each dependent and guides the appropriate record review and the face-to-face interview. This form is completed by Service members and/or family members and internal physicians.

○ Total annual public time burden for the DD Form X678-1 TEST: 1,573 hours.

○ Average time per response for the DD Form X678-1 TEST (in minutes): 20 minutes.

○ Total annual public cost burden for the DD Form X678-1 TEST: $35,714.

• The DD Form X678-2 TEST Dental Health Information documents the dental health of dependent(s) in preparation for a move to a location where the patient may have limited access to dental care. This form is completed by Service members and/or family members and internal or civilian dentists.

○ Total annual public time burden for the DD Form X678-2 TEST: 698 hours.

○ Average time per response for the DD Form X678-2 TEST (in minutes): 6 minutes.

○ Total annual public cost burden for the DD Form X678-2 TEST: $49,218.

• The DD Form X678-3 TEST Patient Care Review summarizes each dependent's medical care received outside the Military Treatment Facility (MTF) (completed by non-MTF primary care managers). If applicable, this form is completed by Service members and/or family members and civilian physicians.

○ Total annual public time burden for the DD Form X678-3 TEST: 629 hours.

○ Average time per response for the DD Form X678-3 TEST (in minutes): 8 minutes.

○ Total annual public cost burden for the DD Form X678-3 TEST: $53,081.

The DD TEST Forms will be piloted to test a standardized FMTS process across the military medical departments. The pilot will determine how the TEST forms can integrate into Service-specific assignment processes. If the forms can successfully integrate into these processes, then these TEST forms will be implemented as DD Forms. For a period of 90 days, the DD TEST Forms will be used in place of existing Service-specific FMTS forms for military families accompanying a Service member from a participating losing installation to a participating gaining installation. These TEST Forms will be monitored until the travel screening processes for all participating families are complete. During the pilot, military medical departments at participating installations will continue to screen non-pilot families using the current military medical department travel screening processes and forms.

Dated: January 21, 2016.
Aaron Siegel,
Alternate OSD Federal Register, Liaison Officer, Department of Defense.

[FR Doc. 2016-01481 Filed 1-25-16; 8:45 am]

BILLING CODE 5001-06-P